DEPARTMENT OF COMMERCE

National Oceanic and Atmospheric Administration

[RTID 0648-XA046]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) of the will hold a meeting.

DATES: The meeting will be held on Tuesday, March 10, 2020, starting at 1 p.m. and continue through 12:30 p.m. on Wednesday, March 11, 2020. See SUPPLEMENTARY INFORMATION for agenda details.

ADDRESSES:

Meeting address: The meeting will take place at the Royal Sonesta Harbor Place, 550 Light Street, Baltimore, MD 21202; telephone: (410) 234-0550.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make acceptable biological catch (ABC) recommendations for golden tilefish for the 2021 fishing year and interim recommendations for the 2022 fishing year based on information in the 2020 data update. The SSC will also review the most recent survey and fishery data and the previously recommended 2021 ABC for blueline tilefish. The SSC will also review and provide feedback on the most recent Mid-Atlantic State of the Ecosystem report and other Ecosystem Approach to Fisheries Management (EAFM) related activities. The SSC and staff from the NMFS Marine Recreational Information Program (MRIP) will have an open discussion and question and answer session regarding the recently implemented changes to the recreational data collection program with a focus on specific implications to Mid-Atlantic stocks. The SSC will discuss the 2020-2024 stock assessment schedule, recent changes to the Mid-Atlantic Council's risk policy, and receive an update from the Illex workgroup. In addition, the SSC may take up any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Dated: February 11, 2020.
Diane M. DeJames-Daly,
Acting Deputy Director, Office of Sustainable Fisheries, National Marine Fisheries Service.

[FR Doc. 2020-03012 Filed 2-13-20; 8:45 am]

BILLING CODE 3510-22-P